DEPARTMENT OF TRANSPORTATION

Federal Aviation Administration

14 CFR Part 71

[Docket No. FAA-2008-0307; Airspace Docket 08-AEA-18]

Establishment of Class E Airspace; Removal of Class E Airspace; Roanoke Rapids, NC

AGENCY: Federal Aviation Administration (FAA), DOT.

ACTION: Final rule.

SUMMARY: This action establishes Class E airspace at Halifax-Northampton Regional Airport, (IXA), Roanoke Rapids, NC and removes Class E airspace at Halifax County Airport, Roanoke Rapids, NC, (RZZ). The operating status of the airport will include Instrument Flight Rule (IFR) operations. This action will enhance the safety and airspace management of Halifax-Northampton Regional Airport.

DATES: Effective 0901 UTC, September 25, 2008. The Director of the Federal Register approves this incorporation by reference action under title 1, Code of Federal Regulations, part 51, subject to the annual revision of FAA Order 7400.9 and publication of conforming amendments.

FOR FURTHER INFORMATION CONTACT: Melinda Giddens, Operations Support, Eastern Service Center, Federal Aviation Administration, P.O. Box 20636, Atlanta, Georgia 30320; telephone (404) 305-5610.

SUPPLEMENTARY INFORMATION:

History

On April 8, 2008, the FAA proposed to amend Title 14 Code of Federal Regulations (14 CFR) part 71 by establishing Class E airspace at Roanoke Rapids, NC, (73 FR 19020). This action provides adequate Class E airspace for Instrument Flight Rules (IFR) operations at the new Halifax-Northampton Regional Airport (IXA), and will remove Class E airspace for the Halifax County Airport (RZZ). Area Navigation (RNAV) Global Positioning System (GPS) Standard Instrument Approach Procedures (SIAPs) Runways (RWYs) 02-20 have been developed for Halifax-Northampton Regional Airport. As a result, controlled airspace extending upward from 700 feet Above Ground Level (AGL) is needed to contain the SIAP and for IFR operations at Halifax-Northampton Regional Airport. Class E airspace designations for airspace areas extending upward from 700 feet or more above the surface of the Earth are published in Paragraph 6005 of FAA Order 7400.9R, signed August 15, 2007, and effective September 15, 2007, which is incorporated by reference in 14 CFR 71.1. The Class E designations listed in this document will be published subsequently in the Order.

Interested parties were invited to participate in this rulemaking proceeding by submitting written comments on the proposal to the FAA. No comments objecting to the proposal were received.

The Rule

This amendment to Title 14, Code of Federal Regulations (14 CFR) part 71 establishes Class E airspace at Roanoke Rapids, NC, to provide controlled airspace required to support the Instrument Flight Rules (IFR) operations at Halifax-Northampton Regional Airport (IXA) and to remove the Class E airspace supporting Halifax County Airport (RZZ), as the airspace supporting RZZ is no longer required.

The FAA has determined that this proposed regulation only involves an established body of technical regulations for which frequent and routine amendments are necessary to keep them operationally current. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration proposes to amend 14 CFR part 71 as follows:

PART 71—[AMENDED]

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, signed August 15, 2007, and effective September 15, 2007, is amended as follows:

Paragraph 6005 Class E Airspace Areas Extending Upward from 700 feet or More Above the Surface of the Earth.

* * * * *

AEA NC E5 Roanoke Rapids, NC [REMOVE]

Halifax County Airport, NC

* * * * *

AEA NC E5 Roanoke Rapids, NC [NEW]

Halifax-Northampton Regional Airport, NC

(Lat. 36°19′47″ N., long. 77°38′07″ W.)

That airspace extending upward from 700 feet above the surface within a 6.5-mile radius of Halifax-Northampton Regional Airport.

* * * * *

Issued in College Park, Georgia, on June 19, 2008.
Mark D. Ward,
Manager, Operations Support Group, Eastern Service Center, Air Traffic Organization.

[FR Doc. E8-16181 Filed 7-17-08; 8:45 am]

BILLING CODE 4910-13-M